DEPARTMENT OF THE INTERIOR

Fish and Wildlife Service

Receipt of Applications for Endangered Species Permits

AGENCY: Fish and Wildlife Service, Interior.

ACTION: Notice.

SUMMARY: The public is invited to comment on the following applications to conduct certain activities with endangered species.

DATES: We must receive written data or comments on these applications at the address given below, by April 26, 2006.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered and threatened species. This notice is provided under section 10(c) of the Endangered Species Act of 1973, as amended (16 U.S.C. 1531 et seq.). If you wish to comment, you may submit comments by any one of the following methods. You may mail comments to the Service's Regional Office (see ADDRESSES section) or via electronic mail (e-mail) to victoria_davis@fws.gov. Please include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Round Mountain Biological & Environmental Studies, Inc., Peggy A. Measel, TE121059-0

The applicant requests authorization to take (capture, exam, release) the Indiana bat (Myotis sodalis) and gray bat (Myotis grisescens) while conducting presence/absence surveys for coal-related and other industries. The proposed activities would occur in the State of Tennessee.

Applicant: Christopher E. Skelton, Athens, Georgia, TE121073-0

The applicant requests authorization to take (capture, identify, release) the following species: Shortnose sturgeon (Acipenser brevirostrum), blue shiner (Cyprinella caerulea), Etowah darter (Etheostoma etowahae), Cherokee darter (Etheostoma scotti), amber darter (Percina antesella), goldline darter (Percina aurolineata), Conasauga logperch (Percina jenkinisi), snail darter (Percina tanasi), fat threeridge (Amblema neislerii), purple bankclimber (Elliptoideus sloatianus), upland combshell (Epioblasma metastriata), southern acornshell (Epioblasma othcaloogensis), southern combshell (Epioblasma penita), fine-lined pocketbook (Lampsilis altilis), orange-nacre mucket (Lampsilis perovalis), shinyrayed pocketbook (Lampsilis subangulata), Alabama moccasinshell (Medionidus acutissimus), Coosa moccasinshell (Medionidus parvulus), gulf moccasinshell (Medionidus penicillatus), Ochlockonee moccasinshell (Medionidus simpsonianus), southern clubshell (Pleurobema decisum), southern pigtoe (Pleurobema georgianum), ovate clubshell (Pleurobema perovatum), oval pigtoe (Pleurobema pyriforme), and triangular kidneyshell (Ptychobranchus greenii). The species would be taken while conducting presence/absence surveys throughout the state of Georgia.

Applicant: Benjamin Robert Laseter, Fish and Wildlife Associates, Inc., TE121142-0

The applicant requests authorization to take (capture, identify, release) the Carolina northern flying squirrel (Glaucomys sabrinus coloratus) while conducting presence/absence surveys. The proposed activities would occur on tribal lands of the Eastern Band of Cherokee Indians, Swain and Jackson Counties, North Carolina.

Applicant: University of Southern Mississippi, Carl P. Qualls, TE120013-0

The applicant requests authorization to take (capture, measure, mark, tag, collect egg masses, translocate, hold temporarily) the Mississippi gopher frog (Rana capito sevosa (R. sevosa)) while conducting presence/absence surveys and research studies. The proposed activities would occur at Glen's Pond (Harrison County, Mississippi, DeSoto Ranger Distist, DeSoto Ranger District, DeSoto National Forest), Mike's Pond (Jackson County, Mississippi), McCoy's Pond (Jackson County, Mississippi, section 16 public land south of Hurley), TNC Pond (Jackson County, Mississippi, Old Fort Bayou Mitigation Bank, north of Ocean Springs).

Applicant: Timothy W. Savidge, The Catena Group, Inc., Raleigh, North Carolina, TE121698-0

The applicant requests authorization to take (capture, identify, release, collect relict shells) the James spinymussel (Pleurobema collina), dwarf wedge mussel (Alasmidonta heterodon), Tar River spinymussel (Elliptio steinstansana), Chipola slabshell (Elliptio chipolaensis), Gulf moccasinshell (Medionidus penicillatus), Ochlockonee moccasinshell (Medionidus simpsoniaus), oval pigtoe (Pleurobema pyriforme), shinyrayed pocketbook (Lampsilis subangulata), fat three-ridged (Amblema neislerii), purple bankclimber (Elliptoideus sloatianus), Carolina heelsplitter (Lasmigona decorata), Alabama moccasinshell (Medionidus acutissimus), Coosa moccasinshell (Medionidus parvulus), finelined pocketbook (Lampsilis altillis), ovate clubshell (Pleurobema perovatum), southern acornshell (Epioblasma othcaloogensis), southern clubshell (Pleurobema decisum), southern pigtoe (Pleurobema geogianum), trianglar kidneyshell (Ptychobranchus greenii), Appalachian elktoe (Alasmidonta raveneliana), Cumberland bean (Villosa trabalis), little-wing pearlymussel (Pegias fabula), oyster mussel (Epioblasma capsaeformis), tan riffleshell (Epioblasma florentina walkeri), upland combshell (Epioblasma metastriata), snail darter (Percina tanasi), spotfin chub (Cyprinella monacha), yellowfin madtom (Noturus flavipinnis), amber darter (Percina antesella), Conasauga logperch (Percina jenkinsi), Etowah darter (Etheostoma etowahae), blue shiner (Cyprinella caerulea), Cherokee darter (Etheostoma scotti), goldline darter (Percina aurolineata), Cape Fear shiner (Notropis mekistocholas), and Waccamaw silverside (Menidia extensa) while conducting presence/absence studies. The proposed activities would occur in Alabama, Georgia, North Carolina, and South Carolina.

Dated: March 14, 2006.
Cynthia K. Dohner,
Acting Regional Director.

[FR Doc. E6-4387 Filed 3-24-06; 8:45 am]

BILLING CODE 4310-55-P